DEPARTMENT OF THE INTERIOR

Fish and Wildlife Service

[FWS-R8-ES-2014-N106; FXHC-1113-0000-F3]

Proposed Safe Harbor Agreement for the Shasta Crayfish on Rock Creek, in Shasta County, California

AGENCY: Fish and Wildlife Service, Interior.

ACTION: Notice of availability; receipt of application.

SUMMARY: This notice advises the public that Pacific Gas and Electric Company (applicant) has applied to the U.S. Fish and Wildlife Service (Service) for an Enhancement of Survival permit under the Endangered Species Act of 1973, as amended (Act). The permit application includes a proposed safe harbor agreement (agreement) between the applicant and the Service for the federally endangered Shasta crayfish. The agreement is available for public comment.

DATES: To ensure consideration, please send your written comments by July 27, 2015.

ADDRESSES: Send comments to Mr. Rick Kuyper, via U.S. mail at U.S. Fish and Wildlife Service, 2800 Cottage Way, Room W-2605, Sacramento, CA 95825, or via email at richard_kuyper@fws.gov.

FOR FURTHER INFORMATION CONTACT: Mr. Rick Kuyper, Sacramento Fish and Wildlife Office (see ADDRESSES); telephone: (916) 414-6649.

SUPPLEMENTARY INFORMATION: This notice advises the public that Pacific Gas and Electric Company (applicant) has applied to the U.S. Fish and Wildlife Service (Service) for an Enhancement of Survival permit under the Act (16 U.S.C. 1531 et seq.). The permit application includes a proposed safe harbor agreement (agreement) between the applicant and the Service for the federally endangered Shasta crayfish (Pacifastacus fortis). The agreement is available for public comment.

Availability of Documents

You may obtain copies of the document for review by contacting the individual named above. You may also make an appointment to view the document at the above address during normal business hours.

Background

Under a safe harbor agreement, participating landowners voluntarily undertake management activities on their property to enhance, restore, or maintain habitat benefiting species listed under the Act. Safe harbor agreements, and the subsequent enhancement of survival permits that are issued pursuant to section 10(a)(1)(A) of the Act, encourage private and other non-Federal property owners to implement conservation efforts for listed species by assuring property owners that they will not be subjected to increased property use restrictions as a result of their efforts to attract listed species to their property, or to increase the numbers or distribution of listed species already on their property. Application requirements and issuance criteria for enhancement of survival permits through safe harbor agreements are found in the Code of Federal Regulations (CFR) at 50 CFR 17.22(c) and 17.32(c). An enhancement of survival permit allows any necessary future incidental take of species above the mutually agreed upon baseline conditions for the species, as long as the take is in accordance with the terms and conditions of the permit and accompanying agreement. The federally endangered Shasta crayfish is also listed as endangered under the California Endangered Species Act, and the Service has worked closely with the California Department of Fish and Wildlife during the development of this safe harbor agreement.

Proposed Safe Harbor Agreement for the Shasta Crayfish

The agreement would cover a 200-foot buffer along both sides of Rock Creek located on the applicant's property (enrolled property). One section of Rock Creek, known as the Upper Pool, has no direct inflow or outflow from surface waterways and is fed by an isolated spring that flows from an extensive basalt lava flow. The Upper Pool has barriers both upstream and downstream that prevent species that prey upon, or compete with, Shasta crayfish from entering. Currently, Rock Creek does not contain Shasta crayfish, predatory species, or nonnative crayfish that would compete with and prey upon the Shasta crayfish. Because the Upper Pool does not contain Shasta crayfish, the baseline for the agreement would be zero individuals, but the existing habitat would remain in place. Other native aquatic flora and fauna that could be important for Shasta crayfish are present and plentiful. The applicant has agreed to allow the Service to relocate Shasta crayfish from another nearby location to the Upper Pool which will establish a new population within the species' historical range. Some incidental take of Shasta crayfish could occur in the future during routine maintenance and operation activities, timber management activities, and other activities as described in the agreement. These activities would be conducted by the applicant and also by Crystal Lake Fish Hatchery staff. Should the applicant elect to return the enrolled property to baseline conditions, the agreement has a provision that allows the Service access to the property to capture and relocate Shasta crayfish to other suitable habitat. The agreement would be in effect until 2043.

Upon approval of this agreement and satisfactory completion of all other applicable legal requirements, and consistent with the Service's Safe Harbor Policy (64 FR 32717), the Service would issue an enhancement of survival permit to the applicant. This permit will authorize the applicant to take Shasta crayfish incidental to the following: (1) Implementation of the management activities specified in the agreement; (2) other lawful uses of the property, including ongoing and routine land management activities; and (3) a return to baseline conditions, if desired by the applicant.

An applicant would receive assurances under our “No Surprises” regulations (50 CFR 17.22(c)(5) and 17.32(c)(5)) for Shasta crayfish. In addition to meeting other criteria, actions to be performed under an enhancement of survival permit must not jeopardize the existence of federally listed fish, wildlife, or plants.

Public Review and Comments

The Service has made a preliminary determination that the proposed agreement and permit application are eligible for categorical exclusion under the National Environmental Policy Act of 1969 (NEPA; 42 U.S.C. 4321 et seq.). We explain the basis for this determination in an environmental action statement, which is also available for public review.

Individuals wishing copies of the environmental action statement, and/or copies of the full text of the agreement, including a map of the proposed permit area, should contact the office and personnel listed in the ADDRESSES section above.

Before including your address, phone number, email address, or other personal identifying information in your comment, you should be aware that your entire comment—including your personal identifying information—may be made publicly available at any time. While you can ask us in your comment to withhold your personal identifying information from public review, we cannot guarantee that we will be able to do so.

The Service will evaluate this permit application, associated documents, and comments submitted thereon to determine whether the permit application meets the requirements of section 10(a) of the Act and NEPA regulations. If the Service determines that the requirements are met, we will sign the proposed agreement and issue an enhancement of survival permit under section 10(a)(1)(A) of the Act to the applicant for take of the Shasta crayfish incidental to otherwise lawful activities in accordance with the terms of the agreement. The Service will not make our final decision until after the end of the 30-day comment period and will fully consider all comments received during the comment period.

Authority

The Service provides this notice pursuant to section 10(c) of the Act and pursuant to implementing regulations for NEPA (40 CFR 1506.6).

Jennifer M. Norris,
Field Supervisor, Sacramento Fish and Wildlife Office, Sacramento, California.

[FR Doc. 2015-15708 Filed 6-25-15; 8:45 am]

BILLING CODE 4310-55-P